UNITED STATES SENTENCING COMMISSION

Request for Applications; Ad Hoc Advisory Group on Research and Data Practices

AGENCY: United States Sentencing Commission.

ACTION: Notice.

SUMMARY: The Commission has decided to establish the Ad Hoc Advisory Group on Research and Data Practices as an ad hoc advisory group to the Commission. Having adopted a formal charter for the Ad Hoc Advisory Group on Research and Data Practices, the Commission is constituting the at-large membership of the advisory group under that charter. The Commission hereby invites any individual who is eligible to be appointed to the at-large membership of the Ad Hoc Advisory Group on Research and Data Practices to apply by sending a letter of interest and resume to the Commission as indicated in the ADDRESSES section below. Application materials should be received by the Commission not later than June 6, 2025.

DATES: Application materials for the at-large membership of the Ad Hoc Advisory Group on Research and Data Practices should be received not later than June 6, 2025.

ADDRESSES: An applicant for the at-large membership of the Ad Hoc Advisory Group on Research and Data Practices should apply by sending a letter of interest and resume to the Commission by electronic mail or regular mail. The email address is pubaffairs@ussc.gov. The regular mail address is United States Sentencing Commission, One Columbus Circle NE, Suite 2-500, South Lobby, Washington, DC 20002-8002, Attention: Public Affairs—RDPAG Membership.

FOR FURTHER INFORMATION CONTACT: Jennifer Dukes, Senior Public Affairs Specialist, (202) 502-4597. More information about the Ad Hoc Advisory Group on Research and Data Practices is available on the Commission's website at www.ussc.gov/advisory-groups.

SUPPLEMENTARY INFORMATION: The United States Sentencing Commission is an independent agency in the judicial branch of the United States Government. The Commission promulgates sentencing guidelines and policy statements for federal courts pursuant to 28 U.S.C. 994(a). The Commission also periodically reviews and revises previously promulgated guidelines pursuant to 28 U.S.C. 994(o) and submits guideline amendments to the Congress not later than the first day of May each year pursuant to 28 U.S.C. 994(p).

The Commission recently adopted a formal charter for the Ad Hoc Advisory Group on Research and Data Practices (the “RDPAG”). The RDPAG is an ad hoc advisory group to the Commission established under 28 U.S.C. 995 and Rule 5.4 of the Commission's Rules of Practice and Procedure. Under the charter of the RDPAG, the purpose of the ad hoc advisory group is:

(1) to assist the Commission in carrying out its statutory responsibilities under 28 U.S.C. 991(b) and 995(a)(12)-(16);

(2) to study the best practices of other government agencies and nongovernmental organizations (including those that perform tasks or provide services not related to criminal justice) relating to the collection, maintenance, use, analysis, and dissemination of data relevant to the mission of such agencies and organizations, and the development and execution of research agendas;

(3) to report and make recommendations on how the Commission may incorporate any best practice to more effectively carry out its statutory duties and responsibilities under 28 U.S.C. 991(b) and 995(a)(12)-(16), and fulfill its unique role as a clearinghouse for federal sentencing statistics and practices; and

(4) to perform any other related functions as the Commission requests.

The RDPAG shall consist of no more than 15 members. Of those 15 members, one shall be a representative of the Federal Judicial Center with knowledge and expertise in social science research, one shall be a representative of the Administrative Office of the United States Courts with knowledge and expertise in social science research, and not more than 13 shall be at-large members. Each member is appointed by the Commission. To be eligible to serve as an at-large member, an individual must have an extensive and diverse range of knowledge, expertise, or experience in social science research, including (1) social science research design; (2) data collection and maintenance; (3) conducting quantitative and qualitative analysis of data; or (4) public dissemination of social science research. The at-large membership shall be appointed by the Commission based upon open solicitation for applications from eligible individuals, with a preference to applicants with knowledge or experience in research relating to the criminal justice system.

The RDPAG will be established for a period of 18 months from the date of appointment of the Chair of the group. However, the Commission shall have the option, by majority vote of its membership, to extend the term of the group for an additional six months.

The Commission invites any individual who is eligible to be appointed to the at-large membership of the RDPAG to apply by sending a letter of interest and a resume to the Commission as indicated in the ADDRESSES section above.

(Authority: 28 U.S.C. 994(a), (o), (p), 995; USSC Rules of Practice and Procedure 2.2(c), 5.4.)

Carlton W. Reeves,
Chair.

[FR Doc. 2025-05959 Filed 4-7-25; 8:45 am]

BILLING CODE 2210-40-P